DEPARTMENT OF ENERGY

Federal Energy Regulatory Commission

[Docket No. EG05-25-000, et al.]

Elk River Windfarm, Inc., et al.; Electric Rate and Corporate Filings

December 23, 2004.

The following filings have been made with the Commission. The filings are listed in ascending order within each docket classification.

1. Elk River Windfarm LLC

[Docket No. EG05-25-000]

On December 21, 2004, Elk River Windfarm LLC (Elk River), filed an application for determination of exempt wholesale generator status pursuant to part 365 of the Commission's regulations. Elk River, a Kansas limited liability company, states that it will be engaged directly and exclusively in the business of owning all or part of one or more eligible facilities, and selling electric energy at wholesale.

Elk River states that it has served a copy of the filing on the Securities and Exchange Commission and the Oregon Public Utility Commission.

Comment Date: 5 p.m. Eastern Time on January 10, 2005.

2. New York Independent System Operator, Inc.

[Docket No. EL03-26-004]

Take notice that on December 17, 2004, the New York Independent System Operator, Inc. (NYISO) filed modifications to its services tariff to incorporate a formula for compensating electricity suppliers in certain instances of erroneous bid mitigation in compliance with the Commission's Order issued November 17, 2004, 109 FERC ¶ 61,163. The NYISO has requested that the modifications become effective on February 15, 2005.

The NYISO states that it has served a copy of the filing on all parties that have executed Service Agreements under the NYISO's OATT or services tariff, the New York State Public Service Commission, and upon the electric utility regulatory agencies in New Jersey and Pennsylvania.

Comment Date: 5 p.m. Eastern Time on January 7, 2005.

3. Consolidated Edison Company of New York, Inc.

[Docket No. EL04-126-001]

Take notice that on December 16, 2004, Consolidated Edison Company of New York, Inc. (Con Edison) tendered for filing a revised unexecuted Interconnection Agreement (Agreement) between Con Edison and PSEG Power In-City I, LLC in compliance with the Commission's order issued on November 22, 2004 in Docket No. EL04-126-000, 109 FERC ¶ 61,189.

Con Edison states that copies of this filing was served upon all parties to this proceeding.

Comment Date: 5 p.m. Eastern Time on January 6, 2005.

4. City of Banning, California

[Docket No. EL05-44-000]

Take notice that on December 17, 2004, the City of Banning, California (Banning) submitted for filing changes to its Transmission Revenue Balancing Account Adjustment (TRBAA) and to Appendix I of its Transmission Owner (TO) Tariff. Banning requests a January 1, 2005 effective date. Banning further requests that the Commission waive any fees for the filing of its revised TRBAA.

Comment Date: 5 p.m. Eastern Time on January 7, 2005.

5. City of Riverside, California

[Docket No. EL05-45-000]

Take notice that on December 16, 2004, the City of Riverside, California (Riverside) submitted for filing changes to its Transmission Revenue Balancing Account Adjustment (TRBAA) and to Appendix I of its Transmission Owner (TO) Tariff. Riverside requests a January 1, 2005 effective date. Riverside further requests that the Commission waive any fees for the filing of its revised TRBAA.

Comment Date: 5 p.m. Eastern Time on January 6, 2005.

6. New York Independent System Operator, Inc.

[Docket No. EL05-47-000]

Take notice that on December 17, 2004, the New York Independent System Operator, Inc. (NYISO) submitted a request for waiver of tariff provisions and expedited Commission action in the above-captioned proceeding. NYISO states that the requested waivers would permit the NYISO to issue close-out of settlements for prior service months beginning on February 8, 2005.

The NYISO states it has electronically served a copy of this filing on the official representative of each of its customers, on each participant in its stakeholder committees, and on the New York Public Service Commission. NYISO further states that it has served a copy of this filing on the electric utility regulatory agencies of New Jersey and Pennsylvania.

Comment Date: January 7, 2005.

7. Great Lakes Hydro America, LLC

[Docket No. ER02-2397-002]

Take notice that, on December 17, 2004, Great Lakes Hydro America, LLC (GLHA) submitted for filing its triennial updated market analysis.

GLHA states that copies of the filing were served on parties on the official service list in the above-captioned proceeding.

Comment Date: 5 p.m. Eastern Time on January 6, 2005.

8. Mirant Delta, LLC, Mirant Potrero, LLC

[Docket No. ER04-343-000]

Take notice that on December 16, 2004, Mirant Delta, LLC (Mirant Delta) and Mirant Potrero, LLC (Mirant Potrero) (collectively, Mirant) tendered for filing revised tariff sheets to the Must-Run Service Agreements between Mirant Delta, Mirant Potrero, and the California Independent System Operator Corporation. Mirant requests an effective date of January 1, 2005.

Comment Date: 5 p.m. Eastern Time on January 6, 2005.

9. Midwest Independent Transmission System Operator, Inc.

[Docket No. ER05-344-000]

Take notice that on December 16, 2004, the Midwest Independent Transmission System Operator, Inc. (Midwest ISO) filed a Large Generator Interconnection Agreement among Mankato Energy Center, LLC, Northern States Power Company d/b/a Xcel Energy and the Midwest ISO.

Midwest ISO states that copies of this filing was served on Mankato Energy Center, LLC and Northern States Power Company d/b/a Xcel Energy.

Comment Date: 5 p.m. Eastern Time on January 6, 2005.

10. Illinois Power Company

[Docket No. ER05-345-000]

Take notice that on December 16, 2004, Illinois Power Company tendered for filing a Tariff for Limited Sales of Capacity and Energy to Retail Electricity Suppliers” (Tariff). Illinois Power Company states that if accepted, the Tariff would permit AmerenIP to sell up to 200 MW of electric capacity and energy to Retail Electric Suppliers and Alternative Retail Electric Suppliers in the State of Illinois at cost-based rates. Illinois Power Company requests a January 1, 2005 effective date.

Comment Date: 5 p.m. Eastern Time on January 6, 2005.

11. New England Power Company

[Docket No. ER05-347-000]

Take notice that on December 16, 2004, New England Power Company (NEP) and USGen New England, Inc. (USGenNE) submitted for filing an amendment to the Amended and Restated Continuing Site/Interconnection Agreement (CSIA) between NEP and USGenNE. NEP requests an effective date of December 15, 2004.

NEP states that copies of this filing have been served on ISO-New England, Inc. and regulators in the States of Rhode Island, Vermont, New Hampshire and the Commonwealth of Massachusetts.

Comment Date: 5 p.m. Eastern Time on January 6, 2005.

12. MidAmerican Energy Company

[Docket No. ER05-348-000]

Take notice that on December 16, 2004, MidAmerican Energy Company (MidAmerican) filed a Firm Transmission Service Agreement between MidAmerican Energy Company and Corn Belt Power Cooperative (Corn Belt). MidAmerican requests an effective date of January 1, 2005.

MidAmerican states it has served a copy of the filing on Corn Belt, the Iowa Utilities Board, the Illinois Commerce Commission and the South Dakota Public Utilities Commission.

Comment Date: 5 p.m. Eastern Time on January 6, 2005.

13. Georgia Energy Corporation (An Electric Membership Corporation)

[Docket No. ER05-349-000]

Take notice that on December 16, 2004, Georgia Energy Cooperative (An Electric Membership Corporation) (GEC) filed an application for Market-Based Rate Authority and petitioned the Commission for acceptance of GEC Rate Schedule FERC No1; the granting of certain blanket approvals; and the waiver of certain Commission regulations. CEG requests an effective date of February 15, 2005.

Comment Date: 5 p.m. Eastern Time on January 6, 2005.

14. Mitchell Electric Membership Corporation

[Docket No. ER05-350-000]

Take notice that on December 16, 2004, Mitchell Electric Membership Corporation (Mitchell) filed an application for Market-Based Rate Authority and petitioned the Commission for acceptance of Mitchell Rate Schedule FERC No.1; the granting of certain blanket approvals; and the waiver of certain Commission regulations. Mitchell requests an effective date of February 15, 2005.

Comment Date: 5 p.m. Eastern Time on January 6, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E4-3902 Filed 12-29-04; 8:45 am]

BILLING CODE 6717-01-P